DEPARTMENT OF HEALTH AND HUMAN SERVICES

National Institutes of Health

Center for Scientific Review; Amended Notice of Meeting

Notice is hereby given of a change in the meeting of the Center for Scientific Review Special Emphasis Panel, October 27, 2005, 8 a.m. to October 27, 2005, 6 p.m. Residence Inn Bethesda, 7335 Wisconsin Avenue, Bethesda, MD, 20814 which was published in the Federal Register on October 7, 2005, 70 FR 58725-58728.

The meeting will be held October 28, 2005. The meeting time and location remain the same. The meeting is closed to the public.

Dated: October 20, 2005.
Anthony M. Coelho Jr.,
Acting Director, Office of Federal Advisory Committee Policy.

[FR Doc. 05-21667 Filed 10-31-05; 8:45 am]

BILLING CODE 4140-01-M